NUCLEAR REGULATORY COMMISSION

[NRC-2017-0181]

Identifying and Reporting Human Performance Incidents

AGENCY: Nuclear Regulatory Commission.

ACTION: Draft regulatory issue summary; request for comment.

SUMMARY: The U.S. Nuclear Regulatory Commission (NRC) is seeking public comment on a draft regulatory issue summary (RIS), RIS 2017-XX, “Identifying and Reporting Human Performance Incidents.” This RIS informs licensees of the requirements regarding reporting human performance incidents and how to properly report those matters.

DATES: Submit comments by September 21, 2017. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2017-0181. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: TWFN-8-D36M, U.S. Nuclear Regulatory Commission, Washington, DC 20555-0001.

For additional direction on obtaining information and submitting comments, see “Obtaining Information and Submitting Comments” in the SUPPLEMENTARY INFORMATION section of this document.

FOR FURTHER INFORMATION CONTACT: Carmen Franklin, Office of Nuclear Regulatory Research, telephone: 301-415-2386, email: Carmen.Franklin@nrc.gov and Alexander Schwab, Office of Nuclear Reactor Regulation, telephone: 301-415-8539, email: Alexander.Schwab@nrc.gov. Both are staff of the U.S. Nuclear Regulatory Commission, Washington, DC 20555-0001.

SUPPLEMENTARY INFORMATION:

I. Obtaining Information and Submitting Comments

A. Obtaining Information

Please refer to Docket ID NRC-2017-0181 when contacting the NRC about the availability of information for this action. You may obtain publicly-available information related to this action by any of the following methods:

• Federal Rulemaking Web site: Go to http://www.regulations.gov and search for Docket ID NRC-2017-0181.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft RIS, “Identifying and Reporting Human Performance Incidents” is available in ADAMS under Accession No. ML16029A010.

• NRC's PDR: You may examine and purchase copies of public documents at the NRC's PDR, Room O1-F21, One White Flint North, 11555 Rockville Pike, Rockville, Maryland 20852.

B. Submitting Comments

Please include Docket ID NRC-2017-0181 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

Humans are integral to the safe operation of nuclear power plants. In the late 1970s, the NRC began to focus on ensuring adequate training of plant staff to perform their assigned tasks. The NRC studied the effects of shift work on health, and whether control room simulators would improve training, both factors affecting performance. The agency uses human factors information provided by licensees, as required by § 50.73(b)(2)(ii)(J) of title 10 of the Code of Federal Regulations, as a means to monitor and track human performance by highlighting concerns in the areas of training, procedures, fitness for duty, oversight, problem identification and resolution, communication, human system interface environments, and work planning and practice. The information is used to assist in programmatic oversight of training, procedures, safety culture, human system interface, communication, and inspections. Specifically, the information is used to support the Reactor Oversight Process (ROP) by tracking and trending various levels of human performance-related causes of safety-significant events, identifying precursors, and providing either plant-specific or generic insights into ROP cross cutting areas, which include human performance, problem identification and resolution, and safety conscious work environment.

The NRC issues RISs to communicate with stakeholders on a broad range of regulatory matters. This may include communicating and clarifying the NRC's technical or policy positions on regulatory matters that have not been communicated to, or are not broadly understood by, the nuclear industry.

III. Proposed Action

The NRC is requesting public comments on the draft RIS 2017-XX. The NRC staff will make a final determination regarding issuance of the RIS after it considers any public comments received in response to this request.

Dated at Rockville, Maryland, this 16th day of August, 2017.
For the Nuclear Regulatory Commission.
Alexander D. Garmoe,
Acting Chief, Generic Communications Branch, Division of Policy and Rulemaking, Office of Nuclear Reactor Regulation.

[FR Doc. 2017-17678 Filed 8-21-17; 8:45 am]

BILLING CODE 7590-01-P